DEPARTMENT OF ENERGY

Federal Energy Regulatory Commission

Combined Notice of Filings #2

Take notice that the Commission received the following electric rate filings:

Docket Numbers: ER10-2331-026; ER14-630-003; ER10-2326-025; ER10-2343-023; ER14-1468-003; ER10-2330-025.

Applicants: J.P. Morgan Ventures Energy Corporation, AlphaGen Power LLC, Cedar Brakes I, L.L.C., J.P. Morgan Commodities Canada Corporation, KMC Thermo, LLC, Utility Contract Funding, L.L.C.

Description: Updated Market Power Analysis and Order 697 Compliance Filing of the J.P. Morgan Sellers.

Filed Date: 6/30/14.

Accession Number: 20140630-5179.

Comments Due: 5 p.m. ET 8/29/14.

Docket Numbers: ER10-2398-003; ER10-2399-003; ER10-2406-004; ER10-2408-003; ER10-2409-003; ER10-2410-003; ER10-2411-004; ER10-2412-004; ER11-2935-004; ER13-1816-001.

Applicants: Blackstone Wind Farm, LLC, Blackstone Wind Farm II LLC, High Trail Wind Farm, LLC, Meadow Lake Wind Farm LLC, Meadow Lake Wind Farm II LLC, Meadow Lake Wind Farm III LLC, Meadow Lake Wind Farm IV LLC, Paulding Wind Farm II LLC, Sustaining Power Solutions LLC, Marble River, LLC.

Description: Updated Market Power Analysis for the Northeast Region of Blackstone Wind Farm, LLC, et. al.

Filed Date: 6/27/14.

Accession Number: 20140627-5239.

Comments Due: 5 p.m. ET 8/26/14.

Docket Numbers: ER10-2414-004.

Applicants: Old Trail Wind Farm, LLC.

Description: Updated Market Power Analysis for the Northeast Region of Old Trail Wind Farm, LLC.

Filed Date: 6/27/14.

Accession Number: 20140627-5237.

Comments Due: 5 p.m. ET 8/26/14.

Docket Numbers: ER10-2604-006.

Applicants: Luke Paper Company.

Description: Luke Paper Company Market-Based Rate Tariff to be effective 7/1/2014.

Filed Date: 6/30/14.

Accession Number: 20140630-5144.

Comments Due: 5 p.m. ET 7/21/14.

Docket Numbers: ER10-2606-008.

Applicants: Consolidated Water Power Company.

Description: Consolidated Water Power Company Market-Based Rate Tariff to be effective 7/1/2014.

Filed Date: 6/30/14.

Accession Number: 20140630-5147.

Comments Due: 5 p.m. ET 7/21/14.

Docket Numbers: ER10-2609-008.

Applicants: Escanaba Paper Company.

Description: Escanaba Paper Company Market-Based Rate Tariff to be effective 7/1/2014.

Filed Date: 6/30/14.

Accession Number: 20140630-5145.

Comments Due: 5 p.m. ET 7/21/14.

Docket Numbers: ER10-2984-018.

Applicants: Merrill Lynch Commodities, Inc.

Description: Updated Market Power Analysis for the Northeast Region of Merrill Lynch Commodities, Inc.

Filed Date: 6/27/14.

Accession Number: 20140627-5235.

Comments Due: 5 p.m. ET 8/26/14.

Docket Numbers: ER12-2513-003; ER12-2510-003; ER12-2511-003; ER12-2512-003; ER13-2308-001; ER10-2432-006; ER10-2435-006; ER10-2440-006; ER10-2442-006; ER10-2444-006; ER10-2446-006; ER10-2449-006; ER14-1439-001.

Applicants: Raven Power Marketing LLC, Brandon Shores LLC, C.P. Crane LLC, H.A. Wagner LLC, Sapphire Power Marketing LLC, Bayonne Plant Holding, L.L.C., Camden Plant Holding, L.L.C., Dartmouth Power Associates Limited Partn, Elmwood Park Power, LLC, Newark Bay Cogeneration Partnership, L.P, Pedricktown Cogeneration Company LP, York Generation Company LLC, TrailStone Power, LLC.

Description: Updated Market Power Analysis in the Northeast Region of Raven Power Marketing LLC.

Filed Date: 6/27/14.

Accession Number: 20140627-5238.

Comments Due: 5 p.m. ET 8/26/14.

Docket Numbers: ER13-2233-002.

Applicants: Midcontinent Independent System Operator, Inc.

Description: 2014-06-30 Order 764 Compliance Filing to be effective 6/30/2015.

Filed Date: 6/30/14.

Accession Number: 20140630-5163.

Comments Due: 5 p.m. ET 7/21/14.

Docket Numbers: ER14-2306-000.

Applicants: CalEnergy, LLC.

Description: CalEnergy Change in Status Filing to be effective 7/1/2014.

Filed Date: 6/30/14.

Accession Number: 20140630-5143.

Comments Due: 5 p.m. ET 7/21/14.

Docket Numbers: ER14-2307-000.

Applicants: New York State Electric & Gas Corporation.

Description: NYSEG-NYPA Attachment C—O&M Annual Update to be effective 9/1/2014.

Filed Date: 6/30/14.

Accession Number: 20140630-5146.

Comments Due: 5 p.m. ET 7/21/14.

Docket Numbers: ER14-2308-000.

Applicants: Waterside Power, LLC.

Description: Triennial Update Market Power Analysis Filing for NE Region & Tariff Amendments to be effective 7/1/2014.

Filed Date: 6/30/14.

Accession Number: 20140630-5151.

Comments Due: 5 p.m. ET 8/29/14.

Docket Numbers: ER14-2309-000.

Applicants: Lea Power Partners, LLC.

Description: Triennial Update Market Power Analysis Filing for NE Region & Tariff Amendment to be effective 7/1/2014.

Filed Date: 6/30/14.

Accession Number: 20140630-5154.

Comments Due: 5 p.m. ET 8/29/14.

Docket Numbers: ER14-2310-000.

Applicants: Consolidated Edison Company of New York,

Description: PASNY Tariff 18-a Surcharge to be effective 7/1/2014.

Filed Date: 6/30/14.

Accession Number: 20140630-5162.

Comments Due: 5 p.m. ET 7/21/14.

Docket Numbers: ER14-2311-000.

Applicants: New England Power Pool Participants Committee.

Description: July 2014 Membership Filing to be effective 7/1/2014.

Filed Date: 6/30/14.

Accession Number: 20140630-5169.

Comments Due: 5 p.m. ET 7/21/14.

Docket Numbers: ER14-2312-000.

Applicants: Lyonsdale Biomass, LLC.

Description: Lyonsdale Biomass Order 784 Compliance Tariff Filing to be effective 7/1/2014.

Filed Date: 6/30/14.

Accession Number: 20140630-5178.

Comments Due: 5 p.m. ET 7/21/14.

Docket Numbers: ER14-2313-000.

Applicants: ReEnergy Livermore Falls LLC.

Description: ReEnergy Livermore Falls Order 784 Compliance Tariff Filing to be effective 7/1/2014.

Filed Date: 6/30/14.

Accession Number: 20140630-5181.

Comments Due: 5 p.m. ET 7/21/14.

Docket Numbers: ER14-2314-000.

Applicants: ReEnergy Sterling CT Limited Partnership.

Description: ReEnergy Sterling CT Limited Partnership Order 784 Compliance Tariff Filing to be effective 7/1/2014.

Filed Date: 6/30/14.

Accession Number: 20140630-5206.

Comments Due: 5 p.m. ET 7/21/14.

Docket Numbers: ER14-2315-000.

Applicants: ReEnergy Stratton LLC.

Description: ReEnergy Stratton Order 784 Compliance Tariff Filing to be effective 7/1/2014.

Filed Date: 6/30/14.

Accession Number: 20140630-5213.

Comments Due: 5 p.m. ET 7/21/14.

Docket Numbers: ER14-2316-000.

Applicants: ReEnergy Ashland LLC.

Description: ReEnergy Ashland Compliance Tariff Filing to be effective 7/1/2014.

Filed Date: 6/30/14.

Accession Number: 20140630-5218.

Comments Due: 5 p.m. ET 7/21/14.

Docket Numbers: ER14-2317-000.

Applicants: ReEnergy Fort Fairfield LLC.

Description: ReEnergy Fort Fairfield Order 784 Compliance Tariff Filing to be effective 7/1/2014.

Filed Date: 6/30/14.

Accession Number: 20140630-5222.

Comments Due: 5 p.m. ET 7/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2014.
Nathaniel J. Davis, Sr.,
Deputy Secretary.

[FR Doc. 2014-15981 Filed 7-8-14; 8:45 am]

BILLING CODE 6717-01-P